DEPARTMENT OF ENERGY

Federal Energy Regulatory Commission

[Docket No. PR05-15-000]

The Union Light, Heat and Power Company; Notice of Application for Rate Approval

August 3, 2005.

Take notice that on July 21, 2005, The Union Light, Heat, and Power Company (Union Light) filed with the Federal Energy Regulatory Commission an application pursuant to section 284.123(b)(2)(i) for rate approval. Union Light proposes to establish a monthly reservation charge for no-notice quality service to be rendered pursuant to its Order No. 63 blanket certificate.

Any person desiring to participate in this rate proceeding must file a motion to intervene or protest with the Federal Energy Regulatory Commission, 888 First Street, NE., Washington DC 20426, in accordance with the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time August 24, 2005.

Linda Mitry,
Deputy Secretary.

[FR Doc. E5-4290 Filed 8-8-05; 8:45 am]

BILLING CODE 6717-01-P